DEPARTMENT OF ENERGY

National Nuclear Security Administration

Notice of Intent To Prepare a Supplemental Environmental Impact Statement (SEIS) for the Production of Tritium in a Commercial Light Water Reactor

AGENCY: National Nuclear Security Administration (NNSA), U.S. Department of Energy (DOE).

ACTION: Notice of intent to prepare a supplemental environmental impact statement and conduct public scoping meetings.

SUMMARY: The Council on Environmental Quality's implementing regulations for the National Environmental Policy Act (NEPA) and DOE's NEPA implementing regulations require the preparation of a supplement to an environmental impact statement (EIS) when there are substantial changes to a proposal or when there are significant new circumstances or information relevant to environmental concerns. DOE may also prepare a SEIS at any time to further the purposes of NEPA. Pursuant to these provisions, the NNSA, a semi-autonomous agency within DOE, intends to prepare a SEIS to update the environmental analyses in DOE's 1999 EIS for the Production of Tritium in a Commercial Light Water Reactor (CLWR EIS; DOE/EIS-0288). The CLWR EIS addressed the production of tritium in Tennessee Valley Authority (TVA) reactors using tritium-producing burnable absorber rods (TPBARs). In the Record of Decision (ROD) for the CLWR EIS, NNSA selected TVA's Watts Bar Unit 1 and Sequoyah Units 1 and 2, located in Spring City and Soddy-Daisy, Tennessee, respectively, for tritium production. TVA has been producing tritium for NNSA at Watts Bar Unit 1 since 2004.

After several years of tritium production experience at TVA's Watts Bar Unit 1, NNSA has determined that tritium permeation through TPBAR cladding into the reactor cooling water occurs at a higher rate than previously projected. The proposed SEIS will analyze the potential environmental impacts associated with increased tritium permeation levels observed since 2004; DOE's revised estimate of the maximum number of TPBARs required to support the current Nuclear Posture Review tritium supply requirements; and proposed changes to TVA facilities that may be used for future tritium production. TVA will be participating as a cooperating agency in the preparation of the SEIS. Any other agency that would like to be a cooperating agency in the preparation of the SEIS is requested to contact the SEIS Document Manager as noted in this Notice under ADDRESSES.

DATES: NNSA invites comments on the scope of the SEIS. The public scoping period starts with the publication of this Notice in the Federal Register and will continue until November 14, 2011. NNSA will consider all comments received or postmarked by that date in defining the scope of the SEIS. Comments received or postmarked after that date will be considered to the extent practicable. A public scoping meeting is scheduled to be held on October 20, 2011, from 6:30 p.m. to 10 p.m.

ADDRESSES: The public scoping meeting will be held at the Southeast Tennessee Trade and Conference Center, Athens, TN. NNSA will publish additional notices on the date, time, and location of the scoping meeting in local newspapers in advance of the scheduled meeting. Any necessary changes will be announced in the local media. The scoping meeting will provide the public with an opportunity to present comments, ask questions, and discuss issues with NNSA officials regarding the SEIS.

Written comments or suggestions concerning the scope of the SEIS or requests for more information on the SEIS and public scoping process should be directed to: Mr. Curtis Chambellan, Document Manager for the SEIS, U.S. Department of Energy, National Nuclear Security Administration, Box 5400, Albuquerque, New Mexico 87185-5400; facsimile at 505-845-5754; or e-mail at: tritium.readiness.seis@doeal.gov. Mr. Chambellan may also be reached by telephone at 505-845-5073.

FOR FURTHER INFORMATION CONTACT: For general information on the NNSA NEPA process, please contact: Ms. Mary Martin, NNSA NEPA Compliance Officer, U.S. Department of Energy, 1000 Independence Avenue, SW, Washington, DC 20585, or telephone 202-586-9438. For general information about the DOE NEPA process, please contact: Ms. Carol Borgstrom, Director, Office of NEPA Policy and Compliance (GC-54), U.S. Department of Energy, 1000 Independence Avenue, SW, Washington, DC 20585, or telephone 202-586-4600, or leave a message at 1-800-472-2756. Additional information about the DOE NEPA process, an electronic archive of DOE NEPA documents, and other NEPA resources are provided at http://energy.gov/nepa.

SUPPLEMENTARY INFORMATION: NNSA is responsible for supplying nuclear materials for national security needs and ensuring that the nuclear weapons stockpile remains safe and reliable. Tritium, a radioactive isotope of hydrogen, is an essential component of every weapon in the U.S. nuclear weapons stockpile. Unlike other nuclear materials used in nuclear weapons, tritium decays at a rate of 5.5 percent per year. Accordingly, as long as the Nation relies on a nuclear deterrent, the tritium in each nuclear weapon must be replenished periodically. The last reactor used for tritium production during the Cold War was shut down in 1988. Since then, tritium requirements for the stockpile have largely been met from the existing original inventory through the harvest and recycle of tritium gas during the dismantlement of weapon systems, and the replacement of tritium-containing weapons components as part of Limited Life Component Exchange programs. In December 1999, a new tritium production capability was established through an Interagency Agreement with TVA in which TPBARs are irradiated in the Watts Bar Unit 1 commercial nuclear power reactor and undergo extraction at the Tritium Extraction Facility (TEF) located at DOE's Savannah River Site (SRS) in South Carolina. In order to continue to provide the required supply, irradiation will increase from today's 544 TPBARs per fuel cycle to a projected steady state rate of approximately 1,700 TPBARs per fuel cycle, i.e., approximately every 18 months.

To provide sufficient capacity to ensure the ability to meet projected future stockpile requirements, NNSA and TVA anticipate requesting authorization for TPBAR irradiation to be increased in fiscal year 2016 to a level that is beyond currently licensed rates for one reactor. Meeting the increased demand will require a license amendment from the Nuclear Regulatory Commission (NRC) to permit the irradiation of a greater number of TPBARs per reactor than can currently be irradiated at either the Watts Bar or Sequoyah site. License amendments are reactor specific. NNSA and TVA will supplement the 1999 CLWR EIS with analyses supporting the anticipated license amendment requests that also evaluate a higher level of tritium permeation through TPBAR cladding into the reactor cooling water than was previously analyzed. The tritium releases associated with the proposed increase in the number of TPBARs that could be irradiated at Watts Bar, Sequoyah, or both sites (compared to the number currently authorized by the NRC) would remain below Environmental Protection Agency (EPA) and NRC regulatory limits. Subsequently, TVA plans to adopt the SEIS for use in obtaining the necessary NRC license amendment(s).

The production of tritium in a CLWR is technically straightforward. All of the Nation's supply of tritium has been produced in reactors. Most commercial pressurized water reactors were designed to utilize 12-foot-long rods containing an isotope of boron (boron-10) in ceramic form. These rods are sometimes called burnable absorber rods. The rods are inserted in the reactor fuel assemblies to absorb excess neutrons produced by the uranium fuel in the fission process for the purpose of controlling power in the core at the beginning of an operating cycle. DOE's tritium program developed TPBARs in which neutrons are absorbed by a lithium aluminate ceramic rather than boron ceramic. While the two types of rods function in a very similar manner to absorb excess neutrons in the reactor core, there is one notable difference: When neutrons strike the lithium aluminate ceramic material in a TPBAR, tritium is produced inside the TPBAR. These TPBARs are placed in the same locations in the reactor core as the standard boron burnable absorber rods. There is no fissile material (uranium or plutonium) in the TPBARs. Tritium produced in TPBARs is captured almost instantaneously in a solid zirconium material in the rod, called a “getter.” The getter material that captures the tritium is very effective. During each reactor refueling cycle, the TPBARs are removed from the reactor and transported to SRS. At SRS, the TPBARs are heated in a vacuum at the TEF to extract the tritium from the getter material.

DOE's May 1999 Consolidated Record of Decision for Tritium Supply and Recycling (64 FR 26369) announced the selection of TVA's Watts Bar Unit 1, Sequoyah Unit 1 and Sequoyah Unit 2 for use in irradiating TPBARs and stated that a maximum of approximately 3,400 TPBARs would be irradiated per reactor during each 18-month fuel cycle. Since then, the projected need for tritium has decreased significantly. NNSA has determined that tritium demand to supply the Nuclear Weapons Stockpile could be satisfied using a maximum of approximately 2,500 TPBARs per fuel cycle, with a projected steady state number of approximately 1,700 TPBARs per fuel cycle.

Purpose and Need

Although NNSA's projected need for tritium to support the nuclear weapons stockpile today is less than originally planned, a higher than expected rate of permeation of tritium from TPBARs into reactor coolant water and subsequent release to the environment has restricted the number of TPBARs irradiated at TVA's Watts Bar Unit 1. Before TVA increases tritium production rates to meet expected national security requirements, the environmental analyses in the CLWR EIS are being updated to analyze and evaluate the effects of the higher tritium permeation, as well as any potential effects related to other changes in the regulatory and operating environment since publication of the original CLWR EIS.

As a cooperating agency in the preparation of the SEIS, TVA plans to use the SEIS in pursuing NRC licensing amendments to increase TPBAR irradiation at TVA's Watts Bar Nuclear Plant (WBN) at Spring City, Tennessee, and/or the Sequoyah Nuclear Plant at Soddy-Daisy, Tennessee, beyond levels set in 2002. Four alternatives are expected to be analyzed in the SEIS: The No Action Alternative and three action alternatives, one using only the Watts Bar site, one using only the Sequoyah site, and one using both the Watts Bar and Sequoyah sites. As a matter of note, in a separate proceeding, DOE and TVA are also analyzing the potential use of mixed oxide fuel during some fuel cycles at the Sequoyah Nuclear Plant as part of the U.S. program for surplus plutonium disposition (75 FR 41850. July 19, 2010).

Proposed Action and Alternatives

The CLWR EIS assessed the potential impacts of irradiating up to 3,400 TPBARs per reactor unit operating on 18 month fuel cycles. It included TPBAR irradiation scenarios using multiple reactor units to achieve a maximum level of 6,000 TPBARs every 18 months. Subsequently, tritium production requirements have been reduced such that irradiation of approximately 1,700 TPBARs every reactor fuel cycle is expected to be sufficient to fulfill current requirements, consistent with the 2010 Nuclear Posture Review. To provide flexibility in future tritium supply decisions, the revised environmental analysis is expected to consider irradiation of up to a total of 2,500 TPBARs every 18 months. This approach would provide sufficient reserve capacity to accommodate potential future changes in requirements and to allow for production above currently expected annual requirement levels for short durations (i.e., several years) to recover from potential future shortfalls should that become necessary.

In the CLWR EIS, the permeation of tritium through the TPBAR cladding into the reactor coolant systems of potential tritium production reactors was estimated to be less than or equal to one tritium curie/TPBAR/year. After several years of tritium production experience at Watts Bar Unit 1, NNSA has determined that tritium permeation through TPBAR cladding is approximately three to four times higher than this estimate; nevertheless, tritium releases have been below regulatory limits. To conservatively bound the potential environmental impacts, the SEIS will assess the impacts associated with tritium production in CLWRs based on a permeation rate of approximately five tritium curies/TPBAR/year.

An assessment of tritium mitigation and management measures will be included as part of the environmental analyses in the SEIS. Mitigation and management measures include an assessment of technologies commercially available to treat tritiated effluents, transportation of tritiated effluents and/or low level radioactive waste streams, and other applicable effluent management actions.

The SEIS, which will supplement the 1999 CLWR EIS, will support agency deliberations regarding potential changes in the tritium production at NRC licensed TVA facilities in order to meet the requirements of TVA's agreement with NNSA. These changes also require TVA to pursue an NRC license amendment request for these facilities. Accordingly, the SEIS is expected to substantially meet NRC requirements for an environmental report necessary to support TVA's license amendment request(s) for tritium production at the Watts Bar and/or Sequoyah Nuclear Plants.

No Action Alternative: Produce tritium at currently approved TVA facilities (Watts Bar Unit 1 and Sequoyah Units 1 and 2) at appropriate levels to keep permeation levels within currently approved NRC license and regulatory limits.

Alternative 1: Utilize TVA's Watts Bar site only to a maximum level of 2,500 TPBARs every reactor fuel cycle (18 months).

Alternative 2: Utilize TVA's Sequoyah site only to a maximum level of 2,500 TPBARs every 18 months.

Alternative 3: Utilize both the Watts Bar and Sequoyah sites to a maximum total level of 2,500 TPBARS every 18 months. The level of production per site would be determined by TVA. This alternative would provide the ability to supply stockpile requirements at either site independently, or using both sites with each supplying a portion of the supply.

Preliminary Identification of Environmental Issues

NNSA has tentatively identified the issues for analysis in the SEIS. Additional issues may be identified as a result of the scoping comment process. The SEIS will analyze the potential impacts on:

1. Air, water, soil, and visual resources.

2. Plants and animals, and their habitats, including state and Federally-listed threatened or endangered species and their critical habitats.

3. Irretrievable and irreversible consumption of natural resources and energy, including transportation issues.

4. Cultural resources, including historical and pre-historical resources and traditional cultural properties.

5. Infrastructure and utilities.

6. Socioeconomic conditions.

7. Human health under routine operations and accident conditions, including potential impacts from seismic events.

8. Minority and low-income populations (Environmental Justice).

9. Intentional Destructive Acts, including terrorist acts.

10. Other past, present, and reasonably foreseeable actions (cumulative impacts).

SEIS Process and Invitation to Comment. The SEIS scoping process provides an opportunity for the public to assist the NNSA in determining issues and alternatives to be addressed in the SEIS. One public scoping meeting will be held as noted under DATES in this Notice. The purpose of the scoping meeting is to provide attendees with an opportunity to present comments, ask questions, and discuss issues regarding the SEIS with NNSA officials. Comments can also be mailed to Mr. Chambellan as noted in this Notice under ADDRESSES. The SEIS scoping meeting will include an informal open house from 6:30-7 p.m. to facilitate dialogue between NNSA and the public. Once the formal scoping meeting begins at 7:00 pm, NNSA will present a brief overview of the SEIS process and provide individuals the opportunity to give written or oral statements. NNSA welcomes specific scoping comments or suggestions on the SEIS. Copies of written comments and transcripts of oral comments provided to NNSA during the scoping period will be available on the Internet at http://nnsa.energy.gov/nepa/clwrseis.

After the close of the public scoping period, NNSA will begin preparing the Draft SEIS. NNSA expects to issue the Draft SEIS for public review in 2012. A Federal Register Notice of Availability, along with notices placed in local newspapers, will provide dates and locations for public hearings on the Draft SEIS and the deadline for comments on the draft document. Persons who submit comments with a mailing address during the scoping process will receive a copy of or link to the Draft SEIS. Other persons who would like to receive a copy of or link to the Draft SEIS for review should notify Mr. Chambellan at the address noted under ADDRESSES. NNSA will include all comments received on the Draft SEIS, and responses to those comments in the Final SEIS.

Issuance of the Final SEIS is currently anticipated to take place in 2013. NNSA will issue a ROD no sooner than 30 days after publication of EPA's Notice of Availability of the Final SEIS.

Issued in Washington, DC, this 23rd day of September 2011.
Thomas P. D'Agostino,
Administrator, National Nuclear Security Administration.

[FR Doc. 2011-24947 Filed 9-27-11; 8:45 am]

BILLING CODE 6450-01-P